DEPARTMENT OF AGRICULTURE

Forest Service

Information Collection; Recreation Fee and Wilderness Program Administration

AGENCY: Forest Service, USDA.

ACTION: Notice; request for comment.

SUMMARY: In accordance with the Paperwork Reduction Act of 1995, the Forest Service is seeking comments from all interested individuals and organizations on the extension with revisions to the information collection: Recreation Fee and Wilderness Program Administration.

DATES: Comments must be received in writing on or before June 7, 2019 to be assured of consideration. Comments received after that date will be considered to the extent practicable.

ADDRESSES: Comments concerning this notice should be addressed to Todd Harbin, Assistant National Recreation Fee Program Manager, USDA Forest Service, 1220 SW 3rd Avenue, Suite 1700, Portland, OR 97204.

Comments also may be submitted via facsimile to Todd Harbin at 503-808-2489 or by email at todd.harbin@usda.gov.

The public may inspect comments received at the USDA Forest Service, 1220 SW 3rd Avenue, Suite 1700, Portland, OR 97204 during normal business hours.

FOR FURTHER INFORMATION CONTACT: Todd Harbin, Assistant National Recreation Fee Program Manager, at 541-556-3380 or via email at todd.harbin@usda.gov. Individuals who use telecommunication devices for the deaf (TDD) may call the Federal Relay Service (FRS) at 1-800-877-8339 twenty-four hours a day, every day of the year, including holidays.

SUPPLEMENTARY INFORMATION:

Title: Recreation Fee and Wilderness Program Administration Forms.

OMB Number: 0596-0106.

Type of Request: Extension with no change of a currently approved information collection.

Abstract: The Federal Lands Recreation and Enhancement Act (16 U.S.C. 6801-6814) authorizes the Forest Service to issue permits and charge fees for recreation uses of Federal recreational lands and waters, such as group activities, recreation events and motorized recreational vehicle use. In addition, permits may be issued as a means to disperse use, protect natural and cultural resources, provide for the health and safety of visitors, allocate capacity, and/or help cover the higher costs of providing specialized services.

Forms

FS-2300-26, Recreation Fee Envelope. Information collected includes the amount enclosed in the envelope, date in, date out, number of days paid, time and date of purchase, visitor's vehicle model and license number and registered State, visitor's home zip code, number in party, other charges (if applicable), visitor's Senior, Access Pass or Golden Passport number (if applicable), planned departure date (if applicable), site name, camp's site type: Single campsite or group campsite (if applicable), campsite number (if applicable), and the number in group.

FS-2300-26a, Recreation Fee Envelope, is the same form as FS-2300-26; the difference is the color of the form is different to signify a specific Region's use.

FS-2300-30, Visitor's Permit. Information collected includes the visitor's name and address, area(s) to be visited, dates of visit, length of stay, location of entry and exit points, method of travel, number of people in the group, and where applicable, the number of pack and saddle stock (that is, the number of animals either carrying people or their gear), the number of dogs, and the number of watercraft and/or vehicles (where allowed).

The Forest Service employee who completes the Visitor's Permit will note on the permit any special restrictions or important information the visitor should know. The visitor receives a copy of the permit and instructions to keep the permit with them for the duration of the visit.

FS-2300-32, Visitor Registration Card. Information collected includes the visitor's name and address, area(s) to be visited, dates of visit, length of stay, location of entry and exit points, method of travel, number of people in the group, and where applicable, the number of pack and saddle stock (that is, the number of animals either carrying people or their gear) in the group, the number of dogs, and the number of watercraft and/or vehicles (where allowed).

FS-2300-43, Permit for Short-Term, Noncommercial Use of Government-Owned Cabins and Lookouts is used to record contact information including name, address, and telephone number, requested dates of occupancy, party size, and additional items if applicable, such as number of pack animals and/or snowmobiles. If unable to collect this information, National Forests would not be able to manage their permit programs or disperse use, protect natural and cultural resources, provide for the health and safety of visitors, allocate capacity, and/or help cover the higher costs of providing specialized services on National Forest System recreational lands.

FS-2300-47, National Recreation Application, is a form used to apply for a recreation permit. Information collected includes the applicant's name, address, phone number and email address, location and activity type, date and time of requested use, itinerary, number in party, entry and exit points, day or overnight use, method of travel (if applicable), group organization or event name (if applicable), group leader name and contact information (if applicable), vehicle or boat registration and license number and State of issue (if applicable), type and number of boats, stock or off-highway vehicles (if applicable), and assessed fee and method of payment (if applicable).

FS-2300-48, National Recreation Permit, is used to authorize specific activities at particular facilities or areas. Information collected includes the group or individual's name, responsible person's signature, address, phone number, date of permit, method of travel, license number and description of vehicle and tow type, payment method and amount, number and types of water craft (if applicable), number in a group at a cabin or campsite (if applicable), number and type of off-highway vehicles or other vehicles, and number and type of other use (if applicable).

This information is used to manage the application process and to issue permits for recreation uses of Federal recreational lands and waters. The information will be collected by Federal employees and agents who are authorized to collect recreation fees and/or issue recreation permits. Name and contact information will be used to inform applicants and permit holders of their success in securing a permit for a special area. Number in group, number and type of vehicles, water craft, or stock may be used to assure compliance with management area direction for recreational lands and waters and track visitation trends. A National Forest may use zip codes to help determine where the National Forest's visitor base originates. Activity information may be used to improve services. Personal information such as names, addresses, phone numbers, email addresses, and vehicle registration information will be secured and maintained in accordance with the system of records, National Recreation Reservation System (NRRS) USDA/FS-55.

Estimate of Annual Burden: 3-5 minutes.

Type of Respondents: Individuals.

Estimated Annual Number of Respondents: 2,448,000.

Estimated Annual Number of Responses per Respondent: 1.

Estimated Total Annual Burden on Respondents: 130,000 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: March 29, 2019.
Allen Rowley,
Acting Associate Deputy Chief, National Forest Systems.

[FR Doc. 2019-06764 Filed 4-5-19; 8:45 am]

BILLING CODE 3411-15-P